DEPARTMENT OF COMMERCE

National Institute of Standards and Technology

National Construction Safety Team Advisory Committee Meeting

AGENCY: National Institute of Standards and Technology, Department of Commerce.

ACTION: Notice of open meeting.

SUMMARY: The National Construction Safety Team (NCST) Advisory Committee (Committee) will meet on Monday, December 10, 2012 from 8:30 to 5:00 p.m. Eastern time. The primary purpose of this meeting is to update the Committee on the status of the National Institute of Standards and Technology (NIST) Disaster and Failure Studies Program, receive NIST's response to the Committee's 2011 annual report recommendations, update the Committee on the progress of the NIST Technical Investigation of the May 22, 2011 Tornado in Joplin, MO, and gather information for the Committee's 2012 Annual Report to Congress. The agenda may change to accommodate Committee business. The final agenda will be posted on the NIST Web site at http://www.nist.gov/el/disasterstudies/ncst/.

DATES: The NCST Advisory Committee will meet on Monday, December 10, 2012 from 8:30 a.m. until 5:00 p.m. Eastern time. The meeting will be open to the public.

ADDRESSES: The meeting will be held in Lecture Room B, Administration Building, National Institute of Standards and Technology (NIST), 100 Bureau Drive, Gaithersburg, Maryland 20899. Please note admittance instructions under the SUPPLEMENTARY INFORMATION section of this notice.

FOR FURTHER INFORMATION CONTACT: Eric Letvin, Director, Disaster and Failure Studies Program, 100 Bureau Drive, Mail Stop 8600, Gaithersburg, Maryland 20899-8600. Mr. Letvin's email address is eric.letvin@nist.gov and his phone number is (301) 975-5412.

SUPPLEMENTARY INFORMATION: The Committee was established pursuant to Section 11 of the NCST Act (15 U.S.C. 7310). The Committee is composed of ten members, appointed by the Director of NIST, who were selected for their technical expertise and experience, established records of distinguished professional service, and their knowledge of issues affecting teams established under the NCST Act. The Committee will advise the Director of NIST on carrying out studies of building failures conducted under the authorities of the NCST Act and will review the procedures developed to implement the NCST Act and reports issued under section 8 of the NCST Act (15 U.S.C. 7307). Background information on the NCST Act and information on the NCST Advisory Committee is available at http://www.nist.gov/el/disasterstudies/ncst/.

Pursuant to the Federal Advisory Committee Act, as amended, 5 U.S.C. App., notice is hereby given that the NCST Advisory Committee will meet on Monday, December 10, 2012 at 8:30 a.m. and will adjourn at 5:00 p.m. Eastern time. The meeting will be open to the public.

The primary purpose of this meeting is to update the Committee on the status of the National Institute of Standards and Technology (NIST) Disaster and Failure Studies Program, receive NIST's response to the Committee's 2011 annual report recommendations, update the Committee on the progress of the NIST Technical Investigation of the May 22, 2011 Tornado in Joplin, MO, and gather information for the Committee's 2012 Annual Report to Congress. The final agenda will be posted on the NIST Web site at http://www.nist.gov/el/disasterstudies/ncst/.

Individuals and representatives of organizations who would like to offer comments and suggestions related to items on the Committee's agenda for this meeting are invited to request a place on the agenda. Approximately fifteen minutes will be reserved for public comments, and speaking times will be assigned on a first-come, first-served basis. The amount of time per speaker will be determined by the number of requests received, but is likely to be 5 minutes each. Questions from the public will not be considered during this period. Speakers who wish to expand upon their oral statements, those who had wished to speak but could not be accommodated on the agenda, and those who were unable to attend in person are invited to submit written statements to the National Construction Safety Team Advisory Committee, National Institute of Standards and Technology, 100 Bureau Drive, MS 8600, Gaithersburg, Maryland 20899-8600, via fax at (301) 975-4032, or electronically by email to ncstac@nist.gov.

All those wishing to speak must submit their request by email to the attention of Mr. Eric Letvin, eric.letvin@nist.gov by 5:00 p.m. Eastern time, Monday, December 3, 2012.

All visitors to the NIST site are required to pre-register to be admitted. Anyone wishing to attend this meeting must register by 5:00 p.m. Eastern time, Monday, December 3, 2012, in order to attend. Please submit your full name, email address, and phone number to Michelle Harman. Non-U.S. citizens must also submit their country of citizenship, title, and employer/sponsor. Mrs. Harman's email address is michelle.harman@nist.gov, and her phone number is (301) 975-5324.

Dated: November 7, 2012.
Willie E. May,
Associate Director for Laboratory Programs.

[FR Doc. 2012-27689 Filed 11-14-12; 8:45 am]

BILLING CODE 3510-13-P